DEPARTMENT OF TRANSPORTATION

Research and Special Programs Administration

49 CFR Parts 192 and 195

[Docket No. RSPA-99-6106; Amdt. Nos. 192-94, 195-81]

RIN 2137-AD35

Pipeline Safety: Periodic Updates to Pipeline Safety Regulations (2001); Corrections

AGENCY: Research and Special Programs Administration, DOT.

ACTION: Correcting amendments.

SUMMARY: The Research and Special Programs Administration (RSPA) is correcting a final rule published in the Federal Register on June 14, 2004 (69 FR 32886). That final rule amended and updated various sections of the pipeline safety regulations and incorporated the most recent editions of the voluntary consensus standards publications referenced in 49 CFR parts 192 and 195. That document made an inadvertent error in the definition of “Transmission line” in § 192.3, failed to properly amend Appendix B to part 192, inadvertently reversed a recent amendment to a welder qualification requirement in § 195.222, and contained several typographical errors. This document corrects the final rule by revising the relevant sections.

DATES: Effective July 14, 2004.

FOR FURTHER INFORMATION CONTACT: Gopala K. Vinjamuri by telephone at (202) 366-4503, by fax at (202) 366-4566, by e-mail at gopala.vinjamuri@rspa.dot.gov, or by mail at U.S. Department of Transportation, RSPA/Office of Pipeline Safety, Room 2103, 400 Seventh Street, SW., Washington, DC 20590-0001.

SUPPLEMENTARY INFORMATION: On June 14, 2004, RSPA published a final rule in the Federal Register entitled, “Pipeline Safety: Periodic Updates to Pipeline Safety Regulations” (69 FR 32886). That final rule amended and updated various sections of the pipeline safety regulations and incorporated the most recent editions of the voluntary consensus standards publications referenced in 49 CFR parts 192 and 195. After the final rule was published, RSPA received ten written comments from interested parties identifying an apparent inconsistency in the definition of “Transmission line” in the final rule. Upon further review, we have determined that the June 14, 2002, final rule made an inadvertent error in the definition of “Transmission line” in § 192.3, failed to properly amend Appendix B to part 192 due to an improper amendatory instruction, and inadvertently reversed a recent amendment to § 195.222. It also contained several typographical and punctuation errors.

This document corrects the final regulations by revising the relevant sections.

List of Subjects

49 CFR Part 192

Pipeline safety, Reporting and recordkeeping requirements.

49 CFR Part 195

Carbon dioxide, Petroleum, Pipeline safety, Reporting and recordkeeping requirements.

Accordingly, 49 CFR parts 192 and 195 are corrected by making the following correcting amendments:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, and 60118; and 49 CFR 1.53.

2. In § 192.3, revise the definition of “Transmission line” to read as follows:

§ 192.3 Definitions.

* * * * *

Transmission line means a pipeline, other than a gathering line, that transports gas from a gathering line or storage facility to a gas distribution center, storage facility, or large volume customer that is not down-stream from a gas distribution center; a pipeline that operates at a hoop stress of 20 percent or more of SMYS; or a pipeline that transports gas within a storage field.

Note: A large volume customer may receive similar volumes of gas as a distribution center, and includes factories, power plants, and institutional users of gas.

* * * * *

3. In § 192.7, amend paragraph (c)(2) by revising one entry in the table (table item D(5)) to read as follows:

§ 192.7 Incorporation by reference.

* * * * *

(c) * * *

(2) * * *

Source and name of referenced material | 49 CFR reference
* * * * * * *
D. * * * |
(5) ASME/ANSI B31.8S “Supplement to B31.8 on Managing System Integrity of Gas Pipelines” (ASME/ANSI B31.8S-2002) | §§ 192.903(c); 192.907(b); 192.911, Introductory text; 192.911(i); 192.911(k); 192.911(l); 192.911(m); 192.913(a) Introductory text; 192.913(b)(1); 192.917(a) Introductory text; 192.917(b); 192.917(c); 192.917(e)(1); 192.917(e)(4); 192.921(a)(1); 192.923(b)(2); 192.923(b)(3); 192.925(b) Introductory text; 192.925(b)(1); 192.925(b)(2); 192.925(b)(3); 192.925(b)(4); 192.927(b); 192.927(c)(1)(i); 192.929(b)(1); 192.929(b)(2); 192.933(a); 192.933(d)(1); 192.933(d)(1)(i); 192.935(a); 192.935(b)(1)(iv); 192.937(c)(1); 192.939(a)(1)(i); 192.939(a)(1)(ii); 192.939(a)(3); 192.945(a).

* * * * *

4. In § 192.123, revise the introductory text in paragraph (a) as follows:

§ 192.123 Design limitations for plastic pipe.

(a) Except as provided in paragraph (e) of this section, the design pressure may not exceed a gauge pressure of 100 psig (689 kPa) for plastic pipe used in:

* * * * *

5. In § 192.283, revise paragraphs (a)(1)(ii) and (iii) to read as follows:

§ 192.283 Plastic pipe: Qualifying joining procedures.

(a) * * *

(1) * * *

(ii) In the case of thermosetting plastic pipe, paragraph 8.5 (Minimum Hydrostatic Burst Pressure) or paragraph 8.9 (Sustained Static Pressure Test) of ASTM D2517 (ibr, see § 192.7); or (iii) In the case of electrofusion fittings for polyethylene pipe and tubing, paragraph 9.1 (Minimum Hydraulic Burst Pressure Test), paragraph 9.2 (Sustained Pressure Test), paragraph 9.3 (Tensile Strength Test), or paragraph 9.4 (Joint Integrity Tests) of ASTM Designation F1055 (ibr, see § 192.7).

* * * * *

6. In § 192.505, revise paragraphs (d)(1), (2), and (3) as follows:

§ 192.505 Strength test requirements for steel pipeline to operate at a hoop stress of 30 percent or more of SMYS.

* * * * *

(d) * * *

(1) The component was tested to at least the pressure required for the pipeline to which it is being added;

(2) The component was manufactured under a quality control system that ensures that each item manufactured is at least equal in strength to a prototype and that the prototype was tested to at least the pressure required for the pipeline to which it is being added; or

(3) The component carries a pressure rating established through applicable ASME/ANSI, MSS specifications, or by unit strength calculations as described in § 192.143.

* * * * *

7. In § 192.723, revise paragraph (b)(2) to read as follows:

§ 192.723 Distribution systems: Leakage surveys.

* * * * *

(b) * * *

(2) A leakage survey with leak detector equipment must be conducted outside business districts as frequently as necessary, but at least once every 5 calendar years at intervals not exceeding 63 months. However, for cathodically unprotected distribution lines subject to § 192.465(e) on which electrical surveys for corrosion are impractical, a leakage survey must be conducted at least once every 3 calendar years at intervals not exceeding 39 months.

8. In Appendix B to part 192, revise Sections I, II.A, II.B, II.C, and the first sentence of Section II.D to read as follows:

Appendix B to Part 192—Qualification of Pipe

I. Listed Pipe Specifications

API 5L—Steel pipe, “API Specification for Line Pipe” (ibr, see § 192.7)

ASTM A 53/A53M-99b—Steel pipe, “Standard Specification for Pipe, Steel Black and Hot-Dipped, Zinc-Coated, Welded and Seamless” (ibr, see § 192.7).

ASTM A 106—Steel pipe, “Standard Specification for Seamless Carbon Steel Pipe for High Temperature Service” (ibr, see § 192.7).

ASTM A 333/A 333M—Steel pipe, “Standard Specification for Seamless and Welded Steel Pipe for Low Temperature Service” (ibr, see § 192.7).

ASTM A 381—Steel pipe, “Standard Specification for Metal-Arc-Welded Steel Pipe for Use with High-Pressure Transmission Systems” (ibr, see § 192.7).

ASTM A 671—Steel pipe, “Standard Specification for Electric-Fusion-Welded Pipe for Atmospheric and Lower Temperatures” (ibr, see § 192.7).

ASTM A 672—Steel pipe, “Standard Specification for Electric-Fusion-Welded Steel Pipe for High-Pressure Service at Moderate Temperatures” (ibr, see § 192.7).

ASTM A 691—Steel pipe, “Standard Specification for Carbon and Alloy Steel Pipe, Electric-Fusion-Welded for High Pressure Service at High Temperatures” (ibr, see § 192.7).

ASTM D 2513—Thermoplastic pipe and tubing, “Standard Specification for Thermoplastic Gas Pressure Pipe, Tubing, and Fittings” (ibr, see § 192.7).

ASTM D 2517—Thermosetting plastic pipe and tubing, “Standard Specification for Reinforced Epoxy Resin Gas Pressure Pipe and Fittings” (ibr, see § 192.7).

II. Steel Pipe of Unknown or Unlisted Specification.

A. Bending Properties. For pipe 2 inches (51 millimeters) or less in diameter, a length of pipe must be cold bent through at least 90 degrees around a cylindrical mandrel that has a diameter 12 times the diameter of the pipe, without developing cracks at any portion and without opening the longitudinal weld.

For pipe more than 2 inches (51 millimeters) in diameter, the pipe must meet the requirements of the flattening tests set forth in ASTM A53 (ibr, see § 192.7), except that the number of tests must be at least equal to the minimum required in paragraph II-D of this appendix to determine yield strength.

B. Weldability. A girth weld must be made in the pipe by a welder who is qualified under subpart E of this part. The weld must be made under the most severe conditions under which welding will be allowed in the field and by means of the same procedure that will be used in the field. On pipe more than 4 inches (102 millimeters) in diameter, at least one test weld must be made for each 100 lengths of pipe. On pipe 4 inches (102 millimeters) or less in diameter, at least one test weld must be made for each 400 lengths of pipe. The weld must be tested in accordance with API Standard 1104 (ibr, see § 192.7). If the requirements of API Standard 1104 cannot be met, weldability may be established by making chemical tests for carbon and manganese, and proceeding in accordance with section IX of the ASME Boiler and Pressure Vessel Code (ibr, see 192.7). The same number of chemical tests must be made as are required for testing a girth weld.

C. Inspection. The pipe must be clean enough to permit adequate inspection. It must be visually inspected to ensure that it is reasonably round and straight and there are no defects which might impair the strength or tightness of the pipe.

D. Tensile Properties. If the tensile properties of the pipe are not known, the minimum yield strength may be taken as 24,000 p.s.i. (165 MPa) or less, or the tensile properties may be established by performing tensile tests as set forth in API Specification 5L (ibr, see § 192.7). * * *

* * * * *

PART 195—TRANSPORTATION OF HAZARDOUS LIQUIDS BY PIPELINE

1. The authority citation for part 195 continues to read as follows:

Authority: 49 U.S.C. 5103, 60102, 60104, 60108, 60109, 60118; and 49 CFR 1.53.

2. Revise § 195.222 to read as follows:

§ 195.222 Welders: Qualification of welders.

(a) Each welder must be qualified in accordance with section 6 of API 1104 (ibr, see § 195.3) or section IX of the ASME Boiler and Pressure Vessel Code, (ibr, see § 195.3) except that a welder qualified under an earlier edition than listed in § 195.3 may weld but may not re-qualify under that earlier edition.

(b) No welder may weld with a welding process unless, within the preceding 6 calendar months, the welder has—

(1) Engaged in welding with that process; and

(2) Had one welded tested and found acceptable under section 9 of API 1104 (ibr, see § 195.3).

Issued in Washington, DC on August 27, 2004.
Elaine E. Joost,
Acting Deputy Administrator.

[FR Doc. 04-20263 Filed 9-8-04; 8:45 am]

BILLING CODE 4910-60-P